DEPARTMENT OF ENERGY

Federal Energy Regulatory Commission

Notice of Availability of the Draft Environmental Impact Statement for the Relicensing of the Boundary Hydroelectric Project and the Surrender of the Sullivan Creek Project and Intention To Hold Public Meetings

Boundary Hydroelectric Project

Project No. 2144-038

Sullivan Creek Project

Project No. 2225-015

In accordance with the National Environmental Policy Act of 1969 and the Federal Energy Regulatory Commission (Commission or FERC) regulations contained in the Code of Federal Regulations (CFR)(18 CFR part 380 [FERC Order No. 486, 52 FR 47897]), the Office of Energy Projects has reviewed the applications for license for the Boundary Hydroelectric Project (FERC No. 2144-38), and the surrender of the Sullivan Creek Project (FERC No. 2225-015). The Boundary Project is located on the Pend Oreille River in Pend Oreille County, Washington. The Sullivan Creek Project is located on Sullivan Lake, and Sullivan Creek and Outlet Creeks, tributaries to the Pend Oreille River that empty into the Boundary Project reservoir. Both projects occupy lands within the Colville National Forest.

This draft EIS contains staff evaluations of the applicants' proposals and the alternatives for relicensing the Boundary Project and surrendering the Sullivan Creek Project. The draft EIS documents the views of governmental agencies, non-governmental organizations, affected Indian Tribes, the public, the license applicants, and Commission staff.

A copy of the draft EIS is available for review at the Commission or may be viewed on the Commission's Web site at http://www.ferc.gov, using the “e-Library” link. Enter the docket number of either project, excluding the last three digits, to access the document. For assistance, contact FERC Online Support at FERCOnlineSupport@ferc.gov or toll-free at (866) 208-3676, or for TTY, contact (202) 502-8659.

You may also register online at http://www.ferc.gov/docs-filing/esubscription.asp to be notified via e-mail of new filings and issuances related to these or other pending projects. For assistance, contact FERC Online Support.

All comments must be filed by May 31, 2011, and should reference either Project No. 2144-038, 2225-015, or both as appropriate. Comments may be filed electronically via the Internet. See 18 CFR 385.2001(a)(1)(iii) and the instructions on the Commission's Web site (http://www.ferc.gov/docs-filing/ferconline.asp) under the “eFiling” link. For a simpler method of submitting text only comments, click on “eComment.” For assistance, please contact FERC Online Support. Although the Commission strongly encourages electronic filing, documents may also be paper-filed. To paper-file, mail an original and seven copies to: Kimberly D. Bose, Secretary, Federal Energy Regulatory Commission, 888 First Street, NE., Washington, DC 20426.

Anyone may intervene in this proceeding based on this draft EIS (18 CFR 380.10). You must file your request to intervene as specified above.¹ You do not need intervenor status to have your comments considered.

¹ Interventions may also be filed electronically via the Internet in lieu of paper. See the previous discussion on filing comments electronically.

In addition to or in lieu of sending written comments, you are invited to attend a public meeting that will be held to receive comments on the draft EIS. The time and location of the meetings are as follows:

Nighttime Meeting

Date and Time: May 10, 2011, 6:30 p.m. up to 8:30 p.m. (PST)

Location: Cutter Theater, 302 Park Street, Metaline Falls, Washington, 99153

Daytime Meeting

Date and Time: May 11, 2011, 8:30 a.m. to 12 p.m. (PST)

Location: Doubletree Hotel City Center, 322 North Spokane Falls Court, Spokane, Washington, 99201

At these meetings, resource agency personnel and other interested persons will have the opportunity to provide oral and written comments and recommendations regarding the draft EIS. The meetings will be recorded by a court reporter, and all statements (verbal and written) will become part of the Commission's public record for the project. These meetings are posted on the Commission's calendar located at http://www.ferc.gov/EventCalendar/EventsList.aspx along with other related information.

For further information, please contact David Turner at (202) 502-6191 or at david.turner@ferc.gov.

Dated: April 8, 2011.
Kimberly D. Bose,
Secretary.

[FR Doc. 2011-9065 Filed 4-13-11; 8:45 am]

BILLING CODE 6717-01-P